DEPARTMENT OF LABOR

Office of the Secretary

Submission for OMB Review; Comment Request

January 16, 2003.

The Department of Labor (DOL) has submitted the following public information collection request (ICR) to the Office of Management and Budget (OMB) for review and approval in accordance with the Paperwork Reduction Act of 1995 (Pub. L. 104-13, 44 U.S.C. chapter 35). A copy this ICR, with applicable supporting documentation, may be obtained by calling the Department of Labor. To obtain documentation contact Darrin King at (202) 693-4129 or E-Mail King-Darrin@dol.gov.

Comments should be sent to Office of Information and Regulatory Affairs, Attn: OMB Desk Officer for MSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Type of Review: Extension of a currently approved collection.

Title: Record of Mine Closures, Opening and Reopening of Mines.

OMB Number: 1219-0073.

Affected Public: Business or other for-profit.

Frequency: On occasion; semi-annually; and annually.

Type of Response: Recordkeeping and Reporting.

Number of Respondents: 2,407 .*

* The total respondents are 893 underground mines or 1,514 surface mines; however, only 25% of the mine operators perform these tasks utilizing mine-staff, the remaining 75% utilize contracting services. The contracting services are included as an Operating and Maintenance cost (shown below).

Requirement | Number of respondents | Annual frequency | Annual responses | Average responses time (hour) | Annual burden hours
30 CFR 75.1200, 75.1200-1, 75.1201, 75.1202, 75.1202-1, and 75.1203 | 224 | 2 | 448 | 32 | 14,336
30 CFR 75.1204 and 75.1204-1 | 724 | 1 | 724 | 2 | 1,448
30 CFR 75.373 and 75.1721 | 94 | 1 | 94 | 6 | 564
30 CFR 77.1200, 77.1201, and 77.1202 | 379 | 1 | 379 | 20 | 7,580
Totals |  |  | 1,645 |  | 23,928

Total Annualized Capital/Startup Costs: $0.

Total Annual Costs (operating/maintaining systems or purchasing services): $23,803,160.

Description: 30 CFR 75.1200, 75.1200-1, 75.1201, 75.1202, 75.1202-1, 75.1203, 75.1204, 75.1204-1, 75.372, 75.373, 75.1721, 77.1200, 77.1201, 77.1202, contain requirements for the following: preparation and maintenance of accurate and up-to-date mine maps; submittal to MSHA of Final Mine Ventilation Maps and for a record of Mine Closure; and notification and information submittal to MSHA for the reopening of previously abandoned or the opening of new mines.

Ira L. Mills,
Departmental Clearance Officer.

[FR Doc. 03-1519 Filed 1-22-03; 8:45 am]

BILLING CODE 4510-43-P